DEPARTMENT OF JUSTICE

Notice of Proposed Settlement Agreement Under the Park System Resource Protection Act

Notice is hereby given that the U.S. Department of Justice, on behalf of the U.S. Department of Interior, National Park Service has reached a settlement with University of Miami, on behalf of itself and the R/V F.G. Walton Smith regarding claims for response costs and damages under the Park System Resource Protection Act, 16 U.S.C. 19jj.

The United States' claims arise from the grounding of the vessel F.G. Walton Smith in Biscayne National Park on October 13, 2007. The grounding injured Park resources. Pursuant to the Agreement, the United States will recover a total of $508,708.

The U.S. Department of Justice will receive for a period of thirty (30) days from the date of this publication comments relating to the Settlement Agreement. Comments should be addressed to the Assistant Attorney General, Environment and Natural Resources Division, and either emailed to pubcomment-ees.enrd@usdoj.gov or mailed to P.O. Box 7611, U.S. Department of Justice, Washington, DC 20044-7611 and should refer to the Settlement Agreement between the United States and University of Miami and the R/V F.G. Walton Smith, DJ No. 90-5-1-1-10168.

The proposed settlement agreement may be examined at Biscayne National Park, at 9700 SW 328 Street, Homestead, Florida 33033, and at the Department of the Interior, Office of the Solicitor, Southeast Regional Office, Richard B. Russell Federal Building, 75 Spring Street SW., Atlanta, Georgia 30303. During the public comment period, the Settlement Agreement may also be examined on the following Department of Justice Web site: http://www.usdoj.gov/enrd/Consent_Decrees.html. A copy of the Settlement Agreement may also be obtained by mail from the Consent Decree Library, P.O. Box 7611, U.S. Department of Justice, Washington, DC 20044-7611, or by faxing or emailing a request to “Consent Decree Copy” (EESCDCopy.enrd@usdoj.gov), fax number (202) 514-0097, phone confirmation number (202) 514-5271. In requesting a copy from the Consent Decree Library, please refer to the Settlement Agreement between the United States and University of Miami and the R/V F.G. Walton Smith (proposed Settlement Agreement, DOJ Ref. No. 90-5-1-1-10168), and enclose a check in the amount of $3.25 (25 cents per page reproduction cost) payable to the U.S. Treasury or, if by email or fax, forward a check in that amount to the Consent Decree Library at the stated address.

Maureen Katz,
Assistant Section Chief, Environmental Enforcement Section, Environment and Natural Resources Division.

[FR Doc. 2012-19251 Filed 8-6-12; 8:45 am]

BILLING CODE 4410-15-P